DEPARTMENT OF THE INTERIOR

Bureau of Land Management

[LLCAD06000.L51010000. ER0000.15XL5017AP.LVRWB15B5410]

Notice of Availability of the Draft Joint Environmental Impact Report and Environmental Impact Statement for the West of Devers Upgrade Project, Riverside and San Bernardino Counties, CA

AGENCY: Bureau of Land Management, Interior.

ACTION: Notice of Availability.

SUMMARY: In accordance with the National Environmental Policy Act of 1969, as amended, the Bureau of Land Management (BLM) has prepared a Draft Environmental Impact Statement (EIS) for the West of Devers Upgrade Project (WOD UP) and by this notice is announcing the opening of the comment period. This document is also an Environmental Impact Report (EIR) prepared by the California Public Utilities Commission (CPUC) under the California Environmental Quality Act (CEQA).

DATES: To ensure comments will be considered, the BLM must receive written comments on the West of Devers Upgrade Project Draft Joint EIR/EIS within 45 days following the date the Environmental Protection Agency publishes its Notice of Availability in the Federal Register. The BLM will announce future meetings or hearings and any other public involvement activities at least 15 days in advance through public notices, media releases, and/or mailings.

ADDRESSES: You may submit comments related to the WOD UP by any of the following methods:

• Web site: http://www.blm.gov/ca/st/en/fo/palmsprings/transmission/WestOfDeversProject.html.

• Email: blm_ca_west_of_devers@blm.gov.

• Fax: 760-833-7199.

• Mail: WOD Project Manager; BLM Palm Springs-South Coast Field Office, 1201 Bird Center Drive, Palm Springs, CA 92262

Copies of the Draft Joint EIR/EIS for the WOD UP are available in the Palm Springs/South Coast Field Office at the above address and the BLM California Desert District Office, 22835 Calle San Juan De Los Lagos, Moreno Valley, CA 92553.

FOR FURTHER INFORMATION CONTACT: Frank McMenimen, Project Manager, telephone 760-833-7150; address 1201 Bird Center Drive, Palm Springs, CA 92262; email fmcmenimen@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Southern California Edison (SCE) proposes to upgrade and adjust the routes of the following existing 220 kV transmission lines within SCE's existing West of Devers right-of-way corridor in incorporated and unincorporated areas of Riverside and San Bernardino Counties, including: Devers-El Casco, El Casco-San Bernardino, Devers-San Bernardino, Devers-Vista No. 1 and No. 2, Etiwanda-San Bernardino, and San Bernardino-Vista.

Of the overall 48-mile length of the transmission corridor, approximately 6 miles would cross Trust Lands (Reservation) of the Morongo Band of Mission Indians and approximately 1 mile is on BLM- administered public lands. The BLM lands are located east of the City of Banning and west of the City of Desert Hot Springs in Riverside County.

In addition to the transmission line improvements, substation equipment at Devers, El Casco, Etiwanda, San Bernardino, Timoteo and Tennessee and Vista Substations would be upgraded to accommodate the project changes to transmission and subtransmission systems. Construction of the WOD UP would facilitate the full deliverability of new renewable energy generation resources now being developed in eastern Riverside County, including the BLM's Riverside East Solar Energy Zone, into the Los Angeles area.

The WOD UP would facilitate progress towards meeting California's Renewable Portfolio Standard goals requiring utilities to produce 33 percent of their electricity sales from renewable energy sources by 2020. Utility-scale solar energy development in eastern Riverside County plays an important role in meeting California's renewable energy goals, allowing for immediate and sizeable deployment, driving costs down and taking advantage of the State's best renewable energy resources. Additionally, these upgrades are required to comply with transmission reliability standards and will support integration of small scale electricity generation.

In addition to the Proposed Project, the WOD UP Draft Joint EIR/EIS considers three project alternatives and a No Action/No Project alternative, as well as connected actions enabled by the project. The first alternative moves towers away from residences. The second alternative would place portions of the line underground. The third alternative would use fewer towers, and would not remove all the old towers and poles, leaving future expansion opportunities. Based on the small amount of BLM lands involved, and because of the lack of apparent resource conflicts for the BLM among the alternatives, the BLM has not identified a preferred alternative. The BLM will identify a preferred alternative for the Final EIS based on feedback on the Draft EIS from the public and cooperating agencies.

During the public scoping process, BLM personnel, Federal, State, local agencies, and other stakeholders identified issues for the EIR/EIS, including aesthetics/visual effects; conflicts with existing land uses; social and economic effects, including property values; fire, electric and magnetic fields, and other hazards; construction-related impacts from dust and traffic; slope stability; effects on biological resources; and possible curtailment of electric generation during construction.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

Danielle Chi,
Associate Deputy State Director.

[FR Doc. 2015-19497 Filed 8-6-15; 8:45 am]

BILLING CODE 4310-40-P